DEPARTMENT OF HOUSING AND URBAN DEVELOPMENT

[Docket No. FR-5690-N-01]

Notice of Proposed Information for Public Comment for: Energy and Performance Information Center

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

HUD created the Energy and Performance Information Center (“EPIC”) data system to track the amount and types of Energy Efficiency Measures (EEMs) being implemented within Public Housing units (OMB Control Number 2577-0274). This revision expands the data collected to include the amount and type of Public Housing development, including development in conjunction with Low Income Housing Tax Credits; other planning collections and performance reports presently collected in hard copy; the Physical Needs Assessment; and modernization undertaken by PHAs through Energy Performance Contracts. The EPIC data system is necessary in order to support the Department's Agency Performance Goals (APGs), specifically APG # 4, Measure # 13 which sets numeric targets for completing green retrofits and creating energy efficient units. In addition to the direct support of HUD APG # 4, Measure # 13, the implementation of the EPIC data system will enable HUD to provide reports on the progress of EEMs completed with PIH funding. The EPIC data system will also improve PHA planning by making the five year plan and annual statement process electronic and also enabling HUD to aggregate this information in order to track APG # 2, Measure # 5, which sets goals for expanding the number of families housed. The EPIC data system will also allow improved tracking of the Energy Performance Contract process and will include the Physical Needs Assessment tool.

DATES: Comments Due Date: March 25, 2013.

ADDRESSES: Interested persons are invited to submit comments regarding this proposal. Comments should refer to the proposal by name/or OMB Control number and should be sent to: Colette Pollard, Departmental Reports Management Officer, QDAM, Department of Housing and Urban Development, 451 7th Street SW., Room 4160, Washington, DC 20410-5000; telephone 202.402.3400 (this is not a toll-free number) or email Ms. Pollard at Colette_Pollard@hud.gov. Persons with hearing or speech impairments may access this number through TTY by calling the toll-free Federal Information Relay Service at (800) 877-8339. (Other than the HUD USER information line and TTY numbers, telephone numbers are not toll-free.)

FOR FURTHER INFORMATION CONTACT: Arlette Mussington, Office of Policy, Programs and Legislative Initiatives, PIH, Department of Housing and Urban Development, 451 7th Street SW., (L'Enfant Plaza, Room 2206), Washington, DC 20410; telephone 202-402-4109, (this is not a toll-free number).

SUPPLEMENTARY INFORMATION: The Department will submit the proposed information collection to OMB for review, as required by the Paperwork Reduction Act of 1995 (44 U.S.C. Chapter 35, as amended). This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice Also Lists the Following Information

Title of Proposal: Energy and Performance Information Center (EPIC).

OMB Control Number, if applicable: 2577-0274.

Description of the need for the information and proposed use: The Department has recognized the need for improving energy efficiency in affordable housing and has prioritized this in Agency Priority Goal # 4, Measure # 13. The Department pioneered its data collection in this area with the American Recovery and Reinvestment Act of 2009 in creating the Recovery Act Management Performance System (“RAMPS”). The data collected through the RAMPS gave the Department a more comprehensive dataset regarding energy efficient improvements than it had ever had previously. The EPIC data system builds upon the successes of the RAMPS and adds data collection for other areas. This form is to revise the collection to include other information. Some of this information is presently collected in paper form and will be collected electronically through the EPIC data system.

The EPIC data system will gradually automate the collection of the five year plan and annual statement forms from grantees. These are required forms presently collected in hard copy on Forms 50075.1 and 50075.2 under collection OMB control number 2577-0226. These forms also collect data on the eventual, actual use of funds; this data will be gradually collected electronically through the EPIC data system as well. Electronic collection will enable the Department to aggregate information about the way grantees are using Federal funding. Additionally, PHA grantees will be able to submit Replacement Housing Factor fund plans, the mechanism by which PHAs are allowed to accumulate special funds received based on units removed from the inventory from year to year. This information is presently collected in hard copy at the field office level; the EPIC data system will automate and centralize this collection in order to streamline the process and improve transparency.

Furthermore, the EPIC data system will be loaded with Physical Needs Assessment (“PNA”) data. This data being in the system coupled with the electronic planning process will streamline grantee planning.

The EPIC data system will collect information about the Energy Performance Contract (“EPC”) process such as energy efficiency improvement financed under an EPC, and construction start and completion date. It will also collect the energy efficiency improvements information on the types previously captured through the RAMPS for Public Housing Capital Fund Recovery grants. As the Department moves to shrink its energy footprint in spite of rising energy costs, clear and comprehensive data on this process will be crucial to its success.

Finally, the Department has prioritized in Agency Performance Goal # 2, Measure # 5 making housing more available for more families. In the light of the recent housing crisis, this goal has become simultaneously more challenging and more important. Tracking of the use of Federal funds paid through the Public Housing Capital Fund, the only Federal funding stream dedicated to the capital needs of the nation's last resort housing option, is crucial to understanding how the Department can properly and efficiently assist grantees in meeting this goal as well as assessing the Department's own progress. The EPIC data system will track development of public housing with Federal funds and through other means, including mixed-finance development.

Agency form numbers, if applicable: N/A, the data will be collected utilizing a web-based application. Recipients will be required to complete the collection online. To the greatest extent possible, all data will be pre-populated to minimize data entry. Once the initial file is created, recipients will be able to update the same file and submit on an ongoing basis.

Members of Affected Public: State or Local Government and Non-profit organizations.

Estimation of the total number of hours needed to prepare the information collection including number of respondents, frequency of response, and hours of response: The estimated number of respondents is 3,150 with 69,600 annual responses and the total reporting burden is 183,045 hours.

Status of the proposed information collection: Revision.

Authority: section 3506 of the Paperwork Reduction Act of 1995, 44 U.S.C. Chapter 35, as amended.

Dated: January 15, 2013.
Merrie Nichols-Dixon,
Deputy Director for Office of Policy, Program and Legislative Initiatives.

[FR Doc. 2013-01309 Filed 1-22-13; 8:45 am]

BILLING CODE 4210-67-P